ENVIRONMENTAL PROTECTION AGENCY

[FRL-9904-37-Region-10]

Proposed Modification of a General NPDES Permit for Small Suction Dredging—Permit Number IDG-37-0000

AGENCY: Region 10, Environmental Protection Agency.

ACTION: Proposed modification of a general permit.

SUMMARY: EPA proposes to modify a National Pollutant Discharge Elimination System (NPDES) General Permit for placer mining operations in Idaho using small suction dredges (intake nozzle size of 5 inches in diameter or less and with equipment rated at 15 horsepower or less). When the 2013 GP was issued, the language of the GP contained a discrepancy with the total maximum daily load (TMDL) that was issued for Mores Creek. The GP did not include any reference to the tributaries of Mores, Elk or Grimes creeks that were included in the loading allocations of the TMDL. This modification proposes to rectify that discrepancy by including a reference to the tributaries within the GP requirements for Mores, Grimes and Elk creeks and listing the tributaries in Appendix F to the GP. Other parts of the GP are not open for public comment at this time.

DATES: Interested persons may submit comments on the proposed modification of the general permit to EPA, Region 10 at the address below. Comments must be postmarked by February 3, 2014.

ADDRESSES: Comments on the proposed modified General Permit should be sent to Director, Office of Water and Watersheds; USEPA Region 10; 1200 Sixth Avenue Suite 900, OWW-130; Seattle, Washington 98101. Comments may also be submitted by fax to (206) 553-0165 or electronically to godsey.cindi@epa.gov.

FOR FURTHER INFORMATION CONTACT: Copies of the proposed modified general permit and Statement of Basis are available upon request. Requests may be made to Audrey Washington at (206) 553-0523 or to Cindi Godsey at (907) 271-6561. Requests may also be electronically mailed to: washington.audrey@epa.gov or godsey.cindi@epa.gov. These documents may also be found on the EPA Region 10 Web site at http://yosemite.epa.gov/R10/water.nsf/NPDES+Permits/Permits+Homepage then click on “Draft Permits” then “Draft Permits for Idaho Dischargers.”

SUPPLEMENTARY INFORMATION: Executive Order 12866: The Office of Management and Budget has exempted this action from the review requirements of Executive Order 12866 pursuant to Section 6 of that order.

Regulatory Flexibility Act: Under the Regulatory Flexibility Act (RFA), 5 U.S.C. 601 et seq., a Federal agency must prepare an initial regulatory flexibility analysis “for any proposed rule” for which the agency “is required by section 553 of the Administrative Procedure Act (APA), or any other law, to publish general notice of proposed rulemaking.” The RFA exempts from this requirement any rule that the issuing agency certifies “will not, if promulgated, have a significant economic impact on a substantial number of small entities.” EPA has concluded that NPDES general permits are permits, not rulemakings, under the APA and thus not subject to APA rulemaking requirements or the RFA. Notwithstanding that general permits are not subject to the RFA, EPA has determined that this GP, as issued, will not have a significant economic impact on a substantial number of small entities.

Dated: December 12, 2013.
Christine Psyk,
Associate Director, Office of Water & Watersheds, Region 10, U.S. Environmental Protection Agency.

[FR Doc. 2013-30425 Filed 12-19-13; 8:45 am]

BILLING CODE 6560-50-P